DEPARTMENT OF LABOR

Employment and Training Administration

Benefits, Timeliness, and Quality Data Collection System; Comment Request

ACTION: Notice; Request for comments.

SUMMARY: The Department of Labor, as part of its continuing effort to reduce paperwork and respondent burden conducts a preclearance consultation program to provide the general public and Federal agencies with an opportunity to comment on proposed and/or continuing collections of information in accordance with a provision of the Paperwork Reduction Act of 1995 at 44 U.S.C. 3506(c)(2)(A). This program helps to ensure that requested data can be provided in the desired format, reporting burden (time and financial resources) is minimized, collection instruments are clearly understood, and the impact of collection requirements on respondents can be properly assessed. Currently, the Employment and Training Administration is soliciting comments concerning the proposed extension of the Benefits Timeliness and Quality (BTQ) data collection system, which is part of the Unemployment Insurance (UI) performance measurement system.

The Department plans to issue a Federal Register notice (FRN) requesting comments on proposed changes to UI Performs. That FRN may overlap with this request for renewal of the data collection system. While the proposed changes would shift emphasis of the Federal performance review, changes to the current BTQ data collection should be minimal and burden hours likely will not change.

DATES: Submit comments on or before August 2, 2004.

ADDRESSESS: Send comments to Ms. Geri Oberloh, U.S. Department of Labor, 200 Constitution Avenue, NW., Room S-4522, Washington, DC 20210, (202) 693-3194. (This is not a toll-free number.) E-mail comments to Oberloh.Geri@dol.gov; or fax to (202) 693-3975.

FOR FURTHER INFORMATION CONTACT: Ms. Geri Oberloh, U.S. Department of Labor, 200 Constitution Avenue, NW., Room S-4522, Washington, DC 20210, (202) 693-3194. (This is not a toll-free number.) E-mail Oberloh.Geri@dol.gov; or fax to (202) 693-3975.

SUPPLEMENTARY INFORMATION:

I. Background

The Secretary of Labor under the Social Security Act, title III, section 302 (42 U.S.C. 502), funds the necessary cost of proper and efficient administration of each state UI law. The BTQ program collects information and analyzes data to do this. The BTQ measures look at timeliness and quality of states' performance, various administrative actions and administrative decisions concerning UI benefit operations.

II. Desired Focus of Comments

Currently, the Department is soliciting comments concerning the proposed extension of the collection of benefits timeliness and quality reports which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond through the use of appropriate automated, electronic, mechanical, or other technological collection techniques or other forms of information technology, e.g., permitting electronic submissions of responses.

A copy of the proposed information collection request (ICR) can be obtained by contacting the office listed above in the addressee section of this notice.

III. Current Actions

Type of Review: Extension without change.

Agency: Employment and Training Administration.

Title: Benefits, Timeliness, and Quality Review.

OMB Number: 1205-0359.

Affected Public: State Government.

Agency Form Numbers: ETA-9050, ETA-9051, ETA-9052, ETA-9053, ETA-9054, ETA-9055, ETA-9056, ETA-9057.

Total Respondents: 53.

Frequency: Monthly and Quarterly.

Total Responses: 28,912.

Average Time per Response: 0.7 hours.

Summary of Burden:

Monthly Universe Measures: State Staff Hours per Year
ETA report | Measure | Number of respondents | Reports per year | Total responses | Hrs. per resp. | Total hrs/year
9050 | First Payment Time Lapse, Tier I | 53 | 12 | 636 | .5 | 318
9050 | First Payment Time Lapse, Partial/Part Total Claims, Tier II | 53 | 12 | 636 | .5 | 318
9050 | First Payment Time Lapse, Workshare Claims, Tier II | 53 | 12 | 636 | .5 | 318
9051 | Continued Weeks Compensated Time Lapse, Tier II | 53 | 12 | 636 | .5 | 318
9051 | Continued Weeks Compensated Time Lapse, Partial Part/Total, Tier II | 53 | 12 | 636 | .5 | 318
9051 | Continued Weeks Compensated Time Lapse, Workshare, Tier II | 53 | 12 | 636 | .5 | 318
9052 | Nonmonetary Determinations Time Lapse, Tier I, Detection Date | 53 | 12 | 636 | 1.0 | 636
9053 | Nonmonetary Determinations Time Lapse, Report Only | 53 | 12 | 636 | 1.0 | 636
9054 | Lower Authority Appeals Time Lapse, Tier I | 53 | 12 | 636 | .5 | 318
9055 | Lower Authority Appeals Case Aging, Tier II | 53 | 12 | 636 | 1.0 | 636
9054 | Higher Authority Appeals Time Lapse, Tier I | 53 | 12 | 636 | .5 | 318
9055 | Higher Authority Appeals Case Aging, Tier II | 53 | 12 | 636 | 1.0 | 636
Subtotal |  |  |  |  |  | 5,088

Quarterly Sample Review Measures: State Staff Hours per Year
ETA report | Measure | Number of respondents | Sampled cases reviewed per year | Total cases reviewed per year | Hrs. per resp. | Total hrs/year
9056 | Nonmonetary Determination Quality, Tier I | 29 Small States | 240 | 6,960 | 1 | 6,960
9056 | Nonmonetary Determination Quality, Tier I | 24 Large States | 400 | 9,600 | 1 | 9,600
9057 | Lower Authority Appeals Quality, Tier I | 47 Small States | 80 | 3,760 | 3.5 | 13,160
9057 | Lower Authority Appeals Quality, Tier I | 6 Large States | 160 | 960 | 3.5 | 3,360
Subtotal |  |  |  |  |  | 33,080

Estimated Total Burden Hours: 38,168 hours.

Total Burden Cost (operating/maintaining): 0.

Comments submitted in response to this notice will be summarized and/or included in the request for Office of Management and Budget approval of the ICR; they will also become a matter of public record.

Dated: May 25, 2004.
Cheryl Atkinson,
Administrator, Office of Workforce Security, Washington, DC.

[FR Doc. 04-12378 Filed 6-1-04; 8:45 am]

BILLING CODE 4510-30-P